FEDERAL COMMUNICATIONS COMMISSION

47 CFR Part 73

[DA 02-2720; MM Docket No. 01-123, RM-10139, RM-10387; MM Docket No. 01-177, RM-10196, RM-10388 and RM-10389]

Radio Broadcasting Services; Darien, Rincon, Screven and Statesboro, GA; Palatka and Middleburg, FL

AGENCY: Federal Communications Commission.

ACTION: Final rule.

SUMMARY: In response to a Notice of Proposed Rule Making in MM Docket No. 01-123, 66 FR 33942 (June 26, 2001) and a Notice of Proposed Rule Making in MM Docket No. 01-177, 66 FR 42622 (August 14, 2001), this document consolidates MM Docket Nos. 01-123 and 01-177; upgrades Channel 261C2, Station WMCD(FM), Statesboro, Georgia, to Channel 261C1 and changes Station WMCD's community of license from Statesboro to Rincon, Georgia; downgrades Channel 260C, Station WGNE-FM, Palatka, Florida, to Channel 260C0 and changes WGNE-FM's community of license from Palatka to Middleburg, Florida; and allows the provision of first local aural transmission services to Rincon, Georgia, and Middleburg, Florida. The coordinates for Channel 261C1 at Rincon, Georgia, are 32-08-35 North Latitude and 81-42-14 West Longitude. The coordinates for Channel C0 at Middleburg, Florida are 29-59-40 North Latitude and 81-19-39 West Longitude.

DATES: Effective December 2, 2002.

FOR FURTHER INFORMATION CONTACT: R. Barthen Gorman, Media Bureau, (202) 418-2180.

SUPPLEMENTARY INFORMATION: This is a synopsis of the Commission's Report and Order in MM Docket Nos. 01-123 and 01-177, adopted October 9, 2002, and released October 18, 2002. The full text of this Commission decision is available for inspection and copying during normal business hours in the FCC's Reference Information Center at Portals II, CY-A257, 445 12th Street, SW, Washington, DC. This document may also be purchased from the Commission's duplicating contractors, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under Florida, is amended by adding Middleburg, Channel 260C0 and removing Palatka, Channel 260C.

3. Section 73.202(b), the Table of FM Allotments under Georgia, is amended by adding Rincon, Channel 261C1 and removing Channel 261C2 at Statesboro.

Federal Communications Commission.
John A. Karousos,
Assistant Chief, Audio Division, Media Bureau.

[FR Doc. 02-27695 Filed 10-30-02; 8:45 am]

BILLING CODE 6712-01-P